DEPARTMENT OF AGRICULTURE

Grain Inspection, Packers and Stockyards Administration

Opportunity To Comment on the Applicants for the South Carolina Area Consisting of the Entire State of South Carolina, Except Those Export Port Locations Within the State, Which Are Serviced by the South Carolina Department of Agriculture

AGENCY: Grain Inspection, Packers and Stockyards Administration (GIPSA), USDA.

ACTION: Notice and request for comments.

SUMMARY: GIPSA requests comments on the applicants for designation to provide official services in the South Carolina Area that was open for designation. South Carolina Department of Agriculture (SCDA) applied for the entire State of South Carolina. D.R. Schaal Agency, Inc. (Schaal) applied for all or part of the State of South Carolina.

DATES: GIPSA will consider comments received by September 18, 2017.

ADDRESSES: We invite you to submit comments on these applicants. You may submit comments by any of the following methods:

• Mail, Courier or Hand Delivery: Sharon Lathrop, Compliance Officer, USDA, GIPSA, FGIS, QACD, 10383 North Ambassador Drive, Kansas City, MO 64153.

• Fax: Sharon Lathrop, 816-872-1257.

• Email: FGIS.QACD@usda.gov.

• Submit Comments Using the Internet: Go to http://www.regulations.gov. Instructions for submitting and reading comments are detailed on the site.

Read Applications and Comments: All applications and comments will be available for public inspection at the office above during regular business hours (7 CFR 1.27(c)).

FOR FURTHER INFORMATION CONTACT: Sharon Lathrop, 816-891-0415 or FGIS.QACD@usda.gov.

SUPPLEMENTARY INFORMATION: In the May 22, 2017, Federal Register (82 FR 23175), GIPSA asked persons interested in providing official services in the South Carolina Area to submit an application for designation.

There were two applicants for the South Carolina Area, comprised of the entire State of South Carolina, except those export port locations which are serviced by SCDA, which was open for designation: SCDA applied for the entire area currently assigned to them. Schaal applied for the entire State or the following nine counties within the State of South Carolina: Allendale, Bamberg, Barnwell, Beaufort, Charleston, Colleton, Georgetown, Hampton, and Jasper.

Request for Comments

GIPSA is publishing this notice to provide interested persons the opportunity to present comments concerning the applicants. Commenters are encouraged to submit reasons and pertinent data for support or objection to the designation of the applicants. All comments must be submitted to QACD at the above address or at http://www.regulations.gov. GIPSA will consider all comments received timely along with other available information when making a final decision. GIPSA will then publish a notice of the final decision in the Federal Register, and GIPSA will send the applicants written notification of the decision.

Authority: 7 U.S.C. 71-87k.

Randall D. Jones,
Acting Administrator, Grain Inspection, Packers and Stockyards Administration.

[FR Doc. 2017-17358 Filed 8-16-17; 8:45 am]

BILLING CODE P3410-KD-P